DEPARTMENT OF LABOR

Employment and Training Administration

Notice of Determination Regarding Eligibility to Apply for Worker Adjustment Assistance and NAFTA Transitional Adjustment Assistance

In accordance with section 223 of the Trade Act of 1974, as amended, the Department of Labor herein presents summaries of determinations regarding eligibility to apply for trade adjustment assistance for workers (TA-W) issued during the period of January and February, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-769; JBI LP, Osseo, WI

TA-W-39,659; Tower Automotive, Sebewaing, MI

TA-W-39,993; J & J Tool, Guys Mills, PA WI

TA-W-39,808 & A; Briggs and Stratton Corp., West Allis, WI and Menomonee Falls, WI

TA-W-39,548; Plystar, Inc., Columbus, GA

TA-W-40,670; Knitcraft, Inc., Belmont, NC

TA-W-40,518; Marconi, OSP&P, Milwaukee, WI

TA-W-39,664; Maine Poly, Inc., Greene, ME

In the following cases, the investigation revealed that the criteria for eligibility have not been met for the reasons specified.

Increased imports did not contribute importantly to worker separations at the firm.

TA-W-39,771; Philips E.T.G., South Plainfield, NJ

TA-W-39,771; Stevens Lighting, d/b/a/ Nolarec Industries, Aberdeen, NC

TA-W-40,665; P & H Mining Equipment, A Harnischfeger Industries, Co, A Div. of Joy Global, Inc., Milwaukee, WI

TA-W-40,655; Fujitsu Microelectronics, Inc., Gresham Manufacturing Div., Gresham, OR

TA-W-40,644; Kraft Foods, Cereals/Deserts Div., Minneapolis, MN

TA-W-39,220; MK Acquisitions, Inc., d/b/a American Commercial Vehicles, Orrville, OH

TA-W-39,150; PSC Scanning, Eugene, OR

TA-W-40,036; Polyone Corp., Long Branch, CA

TA-W-40,700; C-Mac Quartz, Crystals, Inc., Div. of C-Mac America, Mechanicsburg, PA

The workers firm does not produce an article as required for certification under Section 222 of the Trade Act of 1974.

TA-W-39,816; CNB International, Buffalo, NY

TA-W-40,552; Electronic Data Systems, Copley, OH

TA-W-39,629; Mastertrans Transportation, Inc., Starkville, MS

TA-W-40,641; Mobil Oil Corp., Business Resource Center, Dallas, TX

The investigation revealed that criteria (1) has not been met. A significant number or proportion of the workers did not become totally or partially separated from employment as required for certification.

TA-W-40,207; Alabama River Pulp, Perdue Hill, AL

TA-W-40,598; Parker Hannifin Corp., Tube Fittings Div., Eaton, OH

Affirmative Determinations for Worker Adjustment Assistance

The following certifications have been issued; the date following the company name and location of each determination references the impact date for all workers of such determination.

TA-W-40,662; Rivers West Apparel, Manti, UT: January 22, 2001.

TA-W-40,656 & A; Vanity Fair Intimates, LP, Monroeville Distribution, Monroeville Cutting, Monroeville Administration, Monroeville, AL and Atmore Sewing, Atmore, AL: December 10, 2000.

TA-W-40,354; International Paper Co., Erie, PA: November 2, 2000.

TA-W-40,519; Agilent Technologies, Inc., Electronic Products and Solutions Group-Spokane, Liberty Lake, WA: December 3, 2000.

TA-W-40,514; Senco Products, Inc., 8485 Broadwell Road, 8450 Broadwell Road, Cincinnati, OH: October 24, 2000.

TA-W-40,205 & A, B, C, D, E, F, G, H, I; Burlington Industries, Inc., Corporate Office, Greensboro, NC, Clarksville Finishing, Clarksville, VA, Halifax Plant, Halifax, VA, Hurt Plant, Hurt, VA, BM Combing Plant, Clarksville, VA Raeford Plant, Raeford, NC, Richmond Plant, Cordova, NC, Stonewall Plant, Stonewall, MS, Mt. Holly Plant, Mount Holly, NC and Burlington Performance Wear, Corp. Office, New York, NY: September 23, 2000.

TA-W-39,774; Warner Electric Brake and Clutch Co., A Subsidiary of Colfax Corp., Roscoe, IL: July 26, 2000.

TA-W-40,310; Mulox, Inc., Baxley, GA: October 19, 2000.

TA-W-40,017; Unifirst Corp., Cave City Manufacturing Plant, Cave City, AR: August 28, 2000.

TA-W-39,917; Curtron Curtains, Inc., Travelers Rest, SC: August 10, 2000.

TA-W-39,888; Alcatel USA, Raleigh, NC: August 2, 2000.

TA-W-40,401; ASARCO, Inc., Tennessee Mines Div., Coy Mines, Jefferson City, TN, Immel Mine, Mascot, TN, Young Mine, Strawberry Plains, TN: November 20, 2000.

TA-W-39,523; Minnesota Twist Drill, Chisholm, MN: June 19, 2000.

TA-W-38,964; SLI Product Lighting, Mullins, SC: March 20, 2000.

TA-W-39,945 & A; Galey and Lord Industries, Inc., Asheboro, NC and Caroleen, NC: August 17, 2000.

TA-W-39,995; Sintermet, LLC, Kittanning, PA: August 22, 2000.

TA-W-40,158; Temple Inland Forest Products Corp., Temple Clarion Div., Shippenville, PA: September 10, 2000.

TA-W-40,448; Metalloy Corp., Machining Operations, Hudson, MI: November 15, 2000.

TA-W-40,601; ArvinMeritor, Inc., Exhaust Div., Fayette, AL: December 21, 2000.

TA-W-40,652 & A; VF Jeanswear Limited Partnership, Springfield Facility, Springfield, MO and Lebanon Equipment Center, Lebanon, MO: December 13, 2000.

TA-W-40,424; Georgia-Pacific, Superior Hardboard Mill, Industrial Wood Products Div., Superior, WI: December 3, 2000.

TA-W-40,661; Osley and Whitney, Inc., An Infinite Group, Inc., Co., Westfield, MA: December 3, 2000.

TA-W-40,737 & A; VF Jeanswear Limited Partnership, Pine Springs Facility, Rojas Facility, Plaza Facility and Riverside Facility, El Paso, TX and Fabens Facility, Fabens, TX: January 16, 2001.

TA-W-39,634; Lea Industries, Div. of Ladd Furniture, Inc., Marion, VA: June 2, 2000.

TA-W-39,930; VC Sportswear, New York, NY: August 30, 2000.

TA-W-39,281 & A, B, C, D & E; Honeywell, Inc., Advanced Circuits Div., Minnetonka, MN, Advanced Circuits Div., Hopkins, MN, Roseville, MN, St. Louis Park, MN, Buffalo, MN and Chippewa Falls, WI: May 7, 2000.

TA-W-40,190; E-M Solutions, Gretna, VA: September 24, 2000.

TA-W-40,470; RBN Manufacturing, Inc., Dothan, AL: November 21, 2000.

TA-W-40,536 & A, B, C & D; Rohm and Haas Co., Moss Point Plant, Moss Point, MS, Cincinnati Service Center, Cincinnati, OH, Woodstock, IL, Virtual Office Locations Operating in the State of Illinois and Virtual Office Locations Operating in the State of North Carolina: December 19, 2000.

TA-W-A40,606; Hibbing Taconite Co., Hibbing, MN: November 16, 2000.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of January, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05192; Warner Electric Brake and Clutch Co., A Subsidiary of Colfax Corp., Roscoe, IL

NAFTA-TAA-05639 & A & B; Acme Steel Co., Riverdale, IL and Acme Coke Plant, Chicago, IL and Acme Furnace Plant, Chicago, IL

NAFTA-TAA-05112; Minnesota Twist Drill, Chisholm, MN

NAFTA-TAA-05629 & A & B; ASARCO, Inc., Coy Mines, Jefferson City, TN, Immel Mine, Mascot Mine, Strawberry Plains, TN

NAFTA-TAA-04827; MK Acquisitions, Inc., d/b/a American Commercial Vehicles, Orville, OH

NAFTA-TAA-05689; Knitcraft, Inc., Belmont, NC

NAFTA-TAA-05234; WRS Motion Picture and Video Lab, Pittsburgh, PA

NAFTA-TAA-05011; Plystar, Inc., Columbus, GA

NAFTA-TAA-05038; Muruta Electronics, North American, Inc., State College operations, State College, PA

NAFTA-TAA-05058; Tower Automotive, Sebewaing, MI

NAFTA-TAA-05170; Briggs and Stration Corp., West Allis, WI and Menomonee Falls, WI

NAFTA-TAA-05402; E-M Solutions, Gretna, VA

NAFTA-TAA-05402; Dorel Juvenile Group, Inc., Formerly Cosco, Inc., Ft. Smith, AR

NAFTA-TAA-05547; Marconi, OSP&P, Milwaukee, WI

NAFTA-TAA-05598; Kraft Foods, Cereals/Desserts, Minneapolis, MN

NAFTA-TAA-05656; Eaton Corp., Powertrain and Specialty Controls Operation, Sanford, NC

NAFTA-TAA-05687; Valhoma Corp., Nexus Management Solutions, Tulsa, OK

NAFTA-TAA-05725; Inoac Packaging Group, Inc., Leitchfield, KY

The workers firm does not produce an article as required for certification under section 250(a), subchapter D, chapter 2, Title II, the Trade Act of 1974, as amended.

NAFTA-TAA-04861; Sonnel International LLC, Houston, TX

NAFTA-TAA-05647; Active Transportation Co., Portland Terminal, Portland, OR

NAFTA-TAA-05748; J and E International Sales, El Paso, TX

NAFTA-TAA-05221; Alcoa Fujikura Ltd,, Automotive Div., Purchasing Dept., San Antonio, TX

The investigation revealed that criteria (1) has not been met. A significant number or proportion of the workers in the workers in the workers' firm, or an appropriate subdivision thereof, (including workers in any agricultural firm or appropriate subdivision therof) did not become totally or partially separated from employment.

NAFTA-TAA-05668; Parker Hannifin Corp., Tube Fittings Div., Eaton, OH

AFFIRMATIVE DETERMINATIONS NAFTA-TAA

NAFTA-TAA-05197; Alcatel USA, Raleigh, NC: August 2, 2000.

NAFTA-TAA-05459; Mulox, Inc., Baxley, GA: October 19, 2000.

NAFTA-TAA-05278; Unifirst Corp., Cave City Manufacturing Pliant, Cave City, AR: August 28, 2000.

NAFTA-TAA-05731; Hammond Power Solutions, Inc., Baraboo, WI: January 11, 2001.

NAFTA-TAA-05319; Motorola, Inc., Personal Communications Sector, Wireless Messaging Div., Boynton Beach, FL: September 13, 2000.s

NAFTA-TAA-05376; Temple Inland Forest Products Corp., Temple Clarion Div., Shippenville, PA: September 10, 2000.

NAFTA-TAA-05153; Philips E.T.G., South Plainfield, NJ: July 13, 2000.

NAFTA-TAA-05681 & A; VF Jeanswear Limited Partnership, Springfield Facility, Springfield, MO and Lebanon Equipment Center, Lebanon, MO: December 13, 2000.

NAFTA-TAA-05496 & A, B; Sony Electronics, Inc., Sony Technology Center, Aperture Grille Div. Including Leased Workers at Tops Temporary and Adecco, Mount Pleasant, PA, Projection Television Picture Tube Div., Mount Pleasant, PA, Projection Television Picture Tube Div., Mount Pleasant, PA and Pittsburgh Television Group Div., Including Leased Workers at Tops Temporary, Adecco and Burn Staffing Services, Mount Pleasant, PA: October 10, 2000.

NAFTA-TAA-05511; Control Concepts Corp., d/b/a Edco, Inc., Ocala, FL: October 2, 2000.

NAFTA-TAA-05552; Saint-Gobain Abrasives, Inc., Segro Colonial Abrasives, Aberdeen, NC: November 12, 2000.

NAFTA-TAA-05600; D.K. Mold & Engineering, Inc., Wyoming, MI: October 23, 2000.

NAFTA-TAA-04996 & A,B,C,D & E; Honeywell, Inc., Advanced Circuits Div., St. Louis Park, MN, Roseville, MN, Hopkins, MN, Minnetonka, MN, Buffalo, NY, Chippewa Falls, WI: April 27, 2000.

NAFTA-TAA-05565; R.G. Barry Texas LP, San Angelo Molding Facility, San Angelo, TX: November 20, 2000.

NAFTA-TAA—05566; Lucent Technologies (Now Known as Celestical, Columbus Workers, Columbus, OH: October 15, 2000.

NAFTA-TAA—05698; Leech tool and Die Works, Inc., Meadville, PA: December 19, 2000.

NAFTA-TAA—05734; Emerson, Appliance Motors, Oxford, MS: January 8, 2001.

NAFTA-TAA—05775; Printing Arts America, George Lithograph Div., Brisbane, CA: January 9, 2001.

I hereby certify that the aforementioned determinations were issued during the month of January and February, 2002. Copies of these determinations are available for inspection in Room C-5311, U.S. Department of Labor, 200 Constitution Avenue, NW., Washington, DC 20210 during normal business hours or will be mailed to persons who write to the above address.

Dated: February 19, 2002.
Edward A. Tomchick,
Director Division of Trade Adjustment Assistance.

[FR Doc. 02-4737 Filed 2-27-02; 8:45 am]

BILLING CODE 4510—30—M